DEPARTMENT OF HEALTH AND HUMAN SERVICES

Centers for Disease Control and Prevention

[60 Day-03-18]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda M. Perryman, CDC Assistant Reports Clearance Officer, 1600 Clifton Road, MS-D24, Atlanta, GA 30333. Written comments should be received within 60 days of this notice.

Proposed Project

An Evaluation of Targeted Health Communication Message: Folic Acid and Neural Tube Defects (OMB No. 0920-0461)—Extension—The National Center on Birth Defects and Developmental Disabilities (NCBDDD), Centers for Disease Control and Prevention (CDC).

Background

The Division of Birth Defects and Developmental Disabilities, within NCBDDD launched a national education campaign in January 1999 to increase women's knowledge about neural tube birth defects (NTDs) and the beneficial role folic acid, a B vitamin, plays in the prevention of NTDs. Studies show that a 50 to 70 percent reduction in the risk of neural tube birth defects is possible if all women capable of becoming pregnant consume 400 micrograms of folic acid daily both prior to and during early pregnancy. Studies also indicate that Hispanic women have a greater risk for NTD-affected pregnancies than women in the general population. Specific, culturally sensitive, targeted media messages need to be directed at this population.

CDC and the March of Dimes Birth Defects Foundation developed health communication media messages and educational materials targeted to health care providers and English and Spanish-speaking women. These media messages and educational materials consist of television and radio public service announcements (PSA), brochures and resource manuals. The Spanish-language folic acid communication evaluation survey examines the impact of Spanish-language media messages on the levels of awareness, knowledge, and vitamin use among Hispanic women of childbearing age.

Hispanic women's exposure to Spanish-language media messages and educational materials on folic acid information will be collected and measured to determine whether these exposures influenced the women's knowledge and usage of folic acid. The number and frequency of women's exposures to the media messages such as television and radio PSAs will be collected from media channels and compared to information collected from survey data, National Council on Folic Acid organizations and the National Clearinghouse on Folic Acid activities. The cost to participants will be $0.

Respondents | No. of respondents | No. of responses/respondent | Avg. burden/response (in hours) | Total burden (in hours)
Telephone Interview | 1,000 | 1 | 20/60 | 333

Dated: November 22, 2002.
Nancy E. Cheal,
Acting Associate Director for Policy, Planning and Evaluation, Centers for Disease Control and Prevention.

[FR Doc. 02-30218 Filed 11-26-02; 8:45 am]

BILLING CODE 4163-18-P